Executive Order 13963 of December 10, 2020

Providing an Order of Succession Within the Department of Defense

By the authority vested in me as President by the Constitution and the laws of the United States of America, including the Federal Vacancies Reform Act of 1998, as amended, 5 U.S.C. 3345 et seq., it is hereby ordered as follows:

Section 1. Order of Succession. (a) Subject to the provisions of section 2 of this order, the following officials of the Department of Defense, in the order listed, shall act as and perform the functions and duties of the office of the Secretary of Defense (Secretary) during any period in which the Secretary has died, resigned, or otherwise become unable to perform the functions and duties of the office of the Secretary, until such time as the Secretary is able to perform the functions and duties of that office:

(i) Deputy Secretary of Defense;

(ii) Secretaries of the Military Departments;

(iii) Under Secretary of Defense for Policy;

(iv) Under Secretary of Defense for Intelligence and Security;

(v) Chief Management Officer of the Department of Defense;

(vi) Under Secretary of Defense for Acquisition and Sustainment;

(vii) Under Secretary of Defense for Research and Engineering;

(viii) Under Secretary of Defense (Comptroller);

(ix) Under Secretary of Defense for Personnel and Readiness;

(x) Deputy Under Secretary of Defense for Policy;

(xi) Deputy Under Secretary of Defense for Intelligence and Security;

(xii) Deputy Under Secretary of Defense for Acquisition and Sustainment;

(xiii) Deputy Under Secretary of Defense for Research and Engineering;

(xiv) Deputy Under Secretary of Defense (Comptroller);

(xv) Deputy Under Secretary of Defense for Personnel and Readiness;

(xvi) General Counsel of the Department of Defense, Assistant Secretaries of Defense, Director of Cost Assessment and Program Evaluation, Director of Operational Test and Evaluation, and Chief Information Officer of the Department of Defense;

(xvii) Under Secretaries of the Military Departments; and

(xviii) Assistant Secretaries of the Military Departments and General Counsels of the Military Departments.

(b) Precedence among officers designated within the same paragraph of subsection (a) of this section shall be determined by the order in which they have been appointed to such office. Where officers designated within the same paragraph of subsection (a) of this section have the same appointment date, precedence shall be determined by the order in which they have taken the oath to serve in that office.

Sec. 2. Exceptions. (a) No individual who is serving in an office listed in section 1(a) of this order in an acting capacity, by virtue of so serving, shall act as Secretary pursuant to this order.

(b) No individual listed in section l(a) of this order shall act as Secretary unless that individual was appointed to an office for which appointment is required to be made by the President, by and with the advice and consent of the Senate, and that individual is otherwise eligible to so serve under the Federal Vacancies Reform Act of 1998, as amended.

(c) Notwithstanding the provisions of this order, the President retains discretion, to the extent permitted by law, to depart from this order in designating an Acting Secretary.

Sec. 3. Revocation. Executive Order 13533 of March 1, 2010 (Providing an Order of Succession Within the Department of Defense), is hereby revoked.

Sec. 4. General Provision. This order is not intended to, and does not, create any right or benefit, substantive or procedural, enforceable at law or in equity by any party against the United States, its departments, agencies, or entities, its officers, employees, or agents, or any other person.

THE WHITE HOUSE,

December 10, 2020.

[FR Doc. 2020-27739

Filed 12-14-20; 11:15 am]

Billing code 3295-F1-P